DEPARTMENT OF AGRICULTURE

Agricultural Marketing Service

7 CFR Part 1160

[Docket No. DA-04-02]

National Fluid Milk Processor Promotion Program; Section 610 Review

AGENCY: Agricultural Marketing Service, USDA.

ACTION: Notice of regulatory review and request for comments.

SUMMARY: This action announces the Agricultural Marketing Service's (AMS) review of the National Fluid Milk Processor Promotion Program (conducted under the Fluid Milk Promotion Order), using the criteria contained in Section 610 of the Regulatory Flexibility Act (RFA).

DATES: Written comments on this document must be received by June 1, 2004.

ADDRESSES: Interested persons are invited to submit written comments concerning this notice of review to David R. Jamison, Chief, Promotion and Research Branch, USDA/AMS/Dairy Programs, STOP 0233—Room 2958-S, 1400 Independence Avenue SW., Washington, DC 20250-0233. You may send your comments by using the electronic process available at the Federal rulemaking portal at http://www.regulations.gov. All comments, which should reference the docket number and the date and page number of this issue of the Federal Register, will be made available for public inspection at the location provided above during regular business hours.

FOR FURTHER INFORMATION CONTACT: David R. Jamison, USDA/AMS/Dairy Programs, Promotion and Research Branch, Stop 0233—Room 2958-S, 1400 Independence Avenue SW., Washington, DC 20250-0233, (202) 720-6909, David.Jamison2@usda.gov.

SUPPLEMENTARY INFORMATION: The Fluid Milk Promotion Act of 1990 (Act) (7 U.S.C. Section 6401, et seq.) authorized the Fluid Milk Promotion Order (Order) (7 CFR part 1160), a national processor program for fluid milk promotion and education. The program's objective is to educate Americans about the benefits of milk, increase fluid milk consumption, and maintain and expand markets and uses for fluid milk products in the contiguous 48 States and the District of Columbia.

The program became effective on December 10, 1993, when the Order was issued. Processors marketing more than 3,000,000 pounds of fluid milk per month, excluding those fluid milk products delivered to the residence of a consumer, fund this program through a 20-cent per hundredweight assessment on fluid milk processed and marketed in consumer-type packages in the contiguous 48 States and the District of Columbia.

The Order provides for the establishment of the Fluid Milk Board, which is composed of 20 members appointed by the Secretary of Agriculture. Fifteen members are fluid milk processors who each represent a separate geographical region, and five are at-large members. Of the five at-large members, at least three must be fluid milk processors and at least one must be from the general public. The members of the Fluid Milk Board serve 3-year terms and are eligible to be appointed to two consecutive terms.

AMS published in the Federal Register its plan (64 FR 8014, February 18, 1999), and later its updated plan (68 FR 48574, August 14, 2003), to review certain regulations using criteria contained in Section 610 of the RFA (5 U.S.C. 601-612). Given that many AMS regulations impact small entities, AMS decided as a matter of policy to review certain regulations which, although they may not meet the threshold requirement under Section 610 of the RFA, warrant review. Accordingly, this notice and request for comments is made for the National Fluid Milk Processor Promotion Program (conducted under the Fluid Milk Promotion Order).

The purpose of the review is to determine whether the Order should be continued without change, amended, or rescinded (consistent with the objectives of the Act) to minimize any significant economic impact of rules upon a substantial number of small entities. AMS will consider the continued need for the Order; the nature of complaints or comments received from the public concerning the Order; the complexity of the Order; the extent to which the Order overlaps, duplicates, or conflicts with other Federal rules, and, to the extent feasible, with State and local government rules; and the length of time since the Order has been evaluated or the degree to which technology, economic conditions, or other factors have changed in the area affected by the Order.

Written comments, views, opinions, and other information regarding the Order's impact on small businesses are invited.

Dated: March 24, 2004.
A.J. Yates,
Administrator, Agricultural Marketing Service.

[FR Doc. 04-7003 Filed 3-29-04; 8:45 am]

BILLING CODE 3410-02-P